DEPARTMENT OF ENERGY

Federal Energy Regulatory Commission

[Docket Nos. ER00-2869-000 and EC00-103-000]

Consumers Energy Company; Notice of Filing

June 30, 2000.

Take notice that on June 16, 2000, Consumers Energy Company (CECo) filed an application under Sections 203 and 205 of the Federal Power Act for approval of an alternative governance structure for the Alliance Regional Transmission Organization (Alliance RTO) once it takes the form of an independent transmission company (Transco).

CECo states that its application is related to and anticipated by the June 3, 1999 applications of the Alliance companies ¹ under Sections 203 and 205 of the Federal Power Act to create the Alliance RTO.

¹ The Alliance Companies are: American Electric Power Service Corporation (AEP) on behalf of the public utility operating company subsidiaries of the AEP system (Appalachian Power Company, Columbus Southern Power Company, Indiana Michigan Power Company, Kentucky Power Company, Kingsport Power Company, Ohio Power Company, and Wheeling Power Company), CECo, The Detroit Edison Company (Detroit Edison), FirstEnergy Corporation (FirstEnergy) on behalf of the transmission-owning FirstEnergy Operating companies (The Cleveland Electric Illuminating Company, Ohio Edison Company, Pennsylvania Power Company, and the Toledo Edison Company), and Virginia Electric and Power Company (Virginia Power).

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before July 17, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-17170 Filed 7-6-00; 8:45 am]

BILLING CODE 6717-01-M